DEPARTMENT OF VETERANS AFFAIRS

VA National Academic Affiliations Council, Notice of Meeting

The Department of Veterans Affairs (VA) gives notice under the Federal Advisory Committee Act, 5 U.S.C. Ch. 10, that the VA National Academic Affiliations Council (Council) will meet via conference call on December 3, 2025, from 1:00 p.m. to 3:00 p.m. Eastern Standard Time (EST). The meeting sessions will begin and end as follows:

Date | Time | Location | Open session
Wednesday, December 3, 2025 | 1:00 p.m. to 3:00 p.m. EST | Virtual via Teleconference | Yes.

The meeting is open to the public.

The purpose of the Council is to advise the Secretary, Department of Veterans Affairs, on matters affecting partnerships between VA and its academic affiliates.

On December 3, 2025, the Council will receive project updates and have discussions on actions affecting the educational mission of VA. The Council will receive oral public comments from 2:25 p.m. to 2:55 p.m. EST. The comment period may end sooner, if there are no comments presented or they are exhausted before the end time.

Interested individuals may attend and present oral statements to the Council on December 3, 2025, during the public comment period. The designated public dial in is 872 701 0185. At the prompt, enter meeting ID 164 919 451#. Individuals who speak are invited to submit a 1- to 2-page summary of their comments at the time of the meeting for inclusion in the official meeting record. Oral presentations will be limited to five minutes or less, depending on the number of participants. Interested parties may also provide written comments for review by the Council prior to the meeting to Ms. Nellie Mitchell, Designated Federal Officer, or at any time via email to Nellie.Mitchell@va.gov. Any member of the public wishing to attend or seeking additional information should contact Ms. Mitchell via email or by phone at 608-358-9902.

Dated: November 13, 2025.
Jelessa M. Burney,
Federal Advisory Committee Management Officer.

[FR Doc. 2025-20003 Filed 11-14-25; 8:45 am]

BILLING CODE 8320-01-P